DEPARTMENT OF THE INTERIOR

Fish and Wildlife Service

Receipt of Application for Endangered Species Permit

AGENCY: Fish and Wildlife Service, Interior.

ACTION: Notice.

SUMMARY: The public is invited to comment on the following application to conduct certain activities with endangered species.

DATES: We must receive written data or comments on the application at the address given below, by June 14, 2007.

ADDRESSES: Documents and other information submitted with the application are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following application for a permit to conduct certain activities with endangered and threatened species. This notice is provided under section 10(c) of the Endangered Species Act of 1973, as amended (16 U.S.C. 1531 et seq.). If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: Jackson Environmental Consulting Services, LLC, Jeremy Lynn Jackson, Richmond, Kentucky, TE102292-3.

The applicant requests authorization to renew and amend an existing permit authorization to take (capture, identify, release) the gray bat (Myotis grisescens), Indiana bat (Myotis sodalis), and Virginia big-eared bat (Corynorhinus townsendii virginianus) while conducting presence/absence surveys in West Virginia, Virginia, Tennessee, North Carolina, Kentucky, Alabama, Arkansas, Illinois, Indiana, Missouri, Ohio, and Pennsylvania.

Dated: April 9, 2007.
Cynthia K. Dohner,
Acting Regional Director.

[FR Doc. E7-9273 Filed 5-14-07; 8:45 am]

BILLING CODE 4310-55-P